DEPARTMENT OF LABOR

Employment and Training Administration

Investigations Regarding Certifications of Eligibility To Apply for NAFTA Transitional Adjustment Assistance

Petitions for transitional adjustment assistance under the North American Free Trade Adjustment-Transitional Adjustment Assistance Implementation Act (P.L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of P.L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request is filed in writing with the Director of DTAA not later than November 10, 2002.

Also, interested persons are invited to submit written comments regarding the subject matter of the petitions to the Director of DTAA at the address shown below not later than November 18, 2002.

Petitions filed with the Governors are available for inspection at the Office of the Director, DTAA, ETA, DOL, Room C-5311, 200 Constitution Avenue, NW., Washington, DC 20210.

Signed at Washington, DC this 21st day of October, 2002.
Edward A. Tomchick,
Director, Division of Trade Adjustment Assistance.

Subject firm | Location | Date received at Governor's Office | Petition No. | Articles produced
60966H (CBO) | Togiak, AK | 09/05/2002 | NAFTA-7,057 | Fresh salmon.
67326G (CBO) | Togiak, AK | 09/05/2002 | NAFTA-7,058 | Fresh salmon.
60161A (CBO) | Togiak, AK | 09/05/2002 | NAFTA-7,059 | Fresh salmon.
58898N (CBO) | Togiak, AK | 09/05/2002 | NAFTA-7,060 | Fresh salmon.
58927U (CBO) | Togiak, AK | 09/05/2002 | NAFTA-7,061 | Fresh salmon.
57914V (CBO) | Togiak, AK | 09/05/2002 | NAFTA-7,062 | Fresh salmon.
57325J (CBO) | Togiak, AK | 09/05/2002 | NAFTA-7,063 | Fresh salmon.
57453B (CBO) | Togiak, AK | 09/05/2002 | NAFTA-7,064 | Fresh salmon.
58423H (CBO) | Togiak, AK | 09/05/2002 | NAFTA-7,065 | Fresh salmon.
57312J (CBO) | Togiak, AK | 09/05/2002 | NAFTA-7,066 | Fresh salmon.
57355C (CBO) | Togiak, AK | 09/05/2002 | NAFTA-7,067 | Fresh salmon.
66920F (CBO) | Togiak, AK | 09/05/2002 | NAFTA-7,068 | Fresh salmon.
55947S (CBO) | Togiak, AK | 09/05/2002 | NAFTA-7,069 | Fresh salmon.
57329E (CBO) | Togiak, AK | 09/05/2002 | NAFTA-7,070 | Fresh salmon.
64825K (CBO) | Togiak, AK | 09/05/2002 | NAFTA-7,071 | Fresh salmon.
66967R (CBO) | Togiak, AK | 09/05/2002 | NAFTA-7,072 | Fresh salmon.
55724E (CBO) | Twin Hills, AK | 09/05/2002 | NAFTA-7,073 | Fresh salmon.
55914X (CBO) | Twin Hills, AK | 09/05/2002 | NAFTA-7,074 | Fresh salmon.
57299F (CBO) | Twin Hills, AK | 09/05/2002 | NAFTA-7,075 | Fresh salmon.
57448P (CBO) | Twin Hills, AK | 09/05/2002 | NAFTA-7,076 | Fresh salmon.
57448P (CBO) | Twin Hills, AK | 09/05/2002 | NAFTA-7,077 | Fresh salmon.
58467R (CBO) | Twin Hills, AK | 09/05/2002 | NAFTA-7,078 | Fresh salmon.
67875V (CBO) | Twin Hills, AK | 09/05/2002 | NAFTA-7,079 | Fresh salmon.
67324V (CBO) | Twin Hills, AK | 09/05/2002 | NAFTA-7,080 | Fresh salmon.
57297U (CBO) | Ugashik, AK | 09/05/2002 | NAFTA-7,081 | Fresh salmon.
60547S (CBO) | Ugashik, AK | 09/05/2002 | NAFTA-7,082 | Fresh salmon.
55889N (CBO) | Aleknagik, AK | 09/05/2002 | NAFTA-7,083 | Fresh salmon.
64904I (CBO) | Aleknagik, AK | 09/05/2002 | NAFTA-7,084 | Fresh salmon.
64752U (CBO) | Aleknagik, AK | 09/05/2002 | NAFTA-7,085 | Fresh salmon.
56109S (CBO) | Aleknagik, AK | 09/05/2002 | NAFTA-7,086 | Fresh salmon.
65164Z (CBO) | Aleknagik, AK | 09/05/2002 | NAFTA-7,087 | Fresh salmon.
60495Q (CBO) | Aleknagik, AK | 09/05/2002 | NAFTA-7,088 | Fresh salmon.
60812Q (CBO) | Aleknagik, AK | 09/05/2002 | NAFTA-7,089 | Fresh salmon.
57747B (CBO) | Aleknagik, AK | 09/05/2002 | NAFTA-7,090 | Fresh salmon.
59461O (CBO) | Aleknagik, AK | 09/05/2002 | NAFTA-7,091 | Fresh salmon.
65831O (CBO) | Chignik Lake, AK | 09/05/2002 | NAFTA-7,092 | Fresh salmon.
55106R (CBO) | Clarks Point, AK | 09/05/2002 | NAFTA-7,093 | Fresh salmon.
57412U (CBO) | Clarks Point, AK | 09/05/2002 | NAFTA-7,094 | Fresh salmon.
60455A (CBO) | Clarks Point, AK | 09/05/2002 | NAFTA-7,095 | Fresh salmon.
58778L (CBO) | Clarks Point, AK | 09/05/2002 | NAFTA-7,096 | Fresh salmon.
64708K (CBO) | Clarks Point, AK | 09/05/2002 | NAFTA-7,097 | Fresh salmon.
65877K (CBO) | Clarks Point, AK | 09/05/2002 | NAFTA-7,098 | Fresh salmon.
56082V (CBO) | Dillingham, AK | 09/05/2002 | NAFTA-7,099 | Fresh salmon.
58240K (CBO) | Dillingham, AK | 09/05/2002 | NAFTA-7,100 | Fresh salmon.
57764U (CBO) | Dillingham, AK | 09/05/2002 | NAFTA-7,101 | Fresh salmon.
64914G (CBO) | Dillingham, AK | 09/05/2002 | NAFTA-7,102 | Fresh salmon.
65891B (CBO) | Dillingham, AK | 09/05/2002 | NAFTA-7,103 | Fresh salmon.
60028Z (CBO) | Dillingham, AK | 09/05/2002 | NAFTA-7,104 | Fresh salmon.
64735B (CBO) | Dillingham, AK | 09/05/2002 | NAFTA-7,105 | Fresh salmon.
63231O (CBO) | Dillingham, AK | 09/05/2002 | NAFTA-7,106 | Fresh salmon.
59800U (CBO) | Dillingham, AK | 09/05/2002 | NAFTA-7,107 | Fresh salmon.
64913N (CBO) | Dillingham, AK | 09/05/2002 | NAFTA-7,108 | Fresh salmon.
57924V (CBO) | Dillingham, AK | 09/05/2002 | NAFTA-7,109 | Fresh salmon.
64740M (CBO) | Dillingham, AK | 09/05/2002 | NAFTA-7,110 | Fresh salmon.
60472S (CBO) | Dillingham, AK | 09/05/2002 | NAFTA-7,111 | Fresh salmon.
59043S (CBO) | Dillingham, AK | 09/05/2002 | NAFTA-7,112 | Fresh salmon.
59907A (CBO) | Dillingham, AK | 09/05/2002 | NAFTA-7,113 | Fresh salmon.
61422E (CBO) | Dillingham, AK | 09/05/2002 | NAFTA-7,114 | Fresh salmon.
61422E (CBO) | Dillingham, AK | 09/05/2002 | NAFTA-7,115 | Fresh salmon.
59644N (CBO) | Dillingham, AK | 09/05/2002 | NAFTA-7,116 | Fresh salmon.
59644N (CBO) | Dillingham, AK | 09/05/2002 | NAFTA-7,117 | Fresh salmon.
65485N (CBO) | Dillingham, AK | 09/05/2002 | NAFTA-7,118 | Fresh salmon.
60404S (CBO) | Dillingham, AK | 09/05/2002 | NAFTA-7,119 | Fresh salmon.
64748B (CBO) | Dillingham, AK | 09/05/2002 | NAFTA-7,120 | Fresh salmon.
57727G (CBO) | Dillingham, AK | 09/05/2002 | NAFTA-7,121 | Fresh salmon.
63231O (CBO) | Dillingham, AK | 09/05/2002 | NAFTA-7,122 | Fresh salmon.
64849C (CBO) | Dillingham, AK | 09/05/2002 | NAFTA-7,123 | Fresh salmon.
65147G (CBO) | Dillingham, AK | 09/05/2002 | NAFTA-7,124 | Fresh salmon.
65905Z (CBO) | Dillingham, AK | 09/05/2002 | NAFTA-7,125 | Fresh salmon.
60323N (CBO) | Dillingham, AK | 09/05/2002 | NAFTA-7,126 | Fresh salmon.
59969W (CBO) | Dillingham, AK | 09/05/2002 | NAFTA-7,127 | Fresh salmon.
57969Z (CBO) | Dillingham, AK | 09/05/2002 | NAFTA-7,128 | Fresh salmon.
58935K (CBO) | Dillingham, AK | 09/05/2002 | NAFTA-7,129 | Fresh salmon.
61256Z (CBO) | Dillingham, AK | 09/05/2002 | NAFTA-7,130 | Fresh salmon.
58935K (CBO) | Dillingham, AK | 09/05/2002 | NAFTA-7,131 | Fresh salmon.
60557S (CBO) | Dillingham, AK | 09/05/2002 | NAFTA-7,132 | Fresh salmon.
60577O (CBO) | Dillingham, AK | 09/05/2002 | NAFTA-7,133 | Fresh salmon.
56631Q (CBO) | Dillingham, AK | 09/05/2002 | NAFTA-7,134 | Fresh salmon.
61851O (CBO) | Dillingham, AK | 09/05/2002 | NAFTA-7,135 | Fresh salmon.
56229X (CBO) | Dillingham, AK | 09/05/2002 | NAFTA-7,136 | Fresh salmon.
65639L (CBO) | Dillingham, AK | 09/05/2002 | NAFTA-7,137 | Fresh salmon.
56023B (CBO) | Dillingham, AK | 09/05/2002 | NAFTA-7,138 | Fresh salmon.
60320L (CBO) | Dillingham, AK | 09/05/2002 | NAFTA-7,139 | Fresh salmon.
57362A (CBO) | Dillingham, AK | 09/05/2002 | NAFTA-7,140 | Fresh salmon.
57362A (CBO) | Dillingham, AK | 09/05/2002 | NAFTA-7,141 | Fresh salmon.
59208H (CBO) | Dillingham, AK | 09/05/2002 | NAFTA-7,142 | Fresh salmon.
65123P (CBO) | Dillingham, AK | 09/05/2002 | NAFTA-7,143 | Fresh salmon.
56667O (CBO) | Dillingham, AK | 09/05/2002 | NAFTA-7,144 | Fresh salmon.
56667O (CBO) | Dillingham, AK | 09/05/2002 | NAFTA-7,145 | Fresh salmon.
56693N (CBO) | Dillingham, AK | 09/05/2002 | NAFTA-7,146 | Fresh salmon.
59888Q (CBO) | Dillingham, AK | 09/05/2002 | NAFTA-7,147 | Fresh salmon.
59799X (CBO) | Dillingham, AK | 09/05/2002 | NAFTA-7,148 | Fresh salmon.
64766M (CBO) | Dillingham, AK | 09/05/2002 | NAFTA-7,149 | Fresh salmon.
60928C (CBO) | Dillingham, AK | 09/05/2002 | NAFTA-7,150 | Fresh salmon.
65823B (CBO) | Dillingham, AK | 09/05/2002 | NAFTA-7,151 | Fresh salmon.
64872Z (CBO) | Dillingham, AK | 09/05/2002 | NAFTA-7,152 | Fresh salmon.
64872Z (CBO) | Dillingham, AK | 09/05/2002 | NAFTA-7,153 | Fresh salmon.
58717H (CBO) | Dillingham, AK | 09/05/2002 | NAFTA-7,154 | Fresh salmon.
59093I (CBO) | Dillingham, AK | 09/05/2002 | NAFTA-7,155 | Fresh salmon.
64681M (CBO) | Dillingham, AK | 09/05/2002 | NAFTA-7,156 | Fresh salmon.
65650A (CBO) | Dillingham, AK | 09/05/2002 | NAFTA-7,157 | Fresh salmon.
60323N (CBO) | Dillingham, AK | 09/05/2002 | NAFTA-7,158 | Fresh salmon.
598980 (CBO) | Dillingham, AK | 09/05/2002 | NAFTA-7, 159 | Fresh salmon.
55581X (CBO) | Dillingham, AK | 09/05/2002 | NAFTA-7, 160 | Fresh salmon.
59758O (CBO) | Dillingham, AK | 09/05/2002 | NAFTA-7, 161 | Fresh salmon.
64746Q (CBO) | Dillingham, AK | 09/05/2002 | NAFTA-7, 162 | Fresh salmon.
57250J (CBO) | Dillingham, AK | 09/05/2002 | NAFTA-7, 163 | Fresh salmon.
57251B (CBO) | Dillingham, AK | 09/05/2002 | NAFTA-7, 164 | Fresh salmon.
58769G (CBO) | Dillingham, AK | 09/05/2002 | NAFTA-7, 165 | Fresh salmon.
58769G (CBO) | Dillingham, AK | 09/05/2002 | NAFTA-7, 166 | Fresh salmon.
60868K (CBO) | Dillingham, AK | 09/05/2002 | NAFTA-7, 167 | Fresh salmon.
59840L (CBO) | Dillingham, AK | 09/05/2002 | NAFTA-7, 168 | Fresh salmon.
64912V (CBO) | Dillingham, AK | 09/05/2002 | NAFTA-7, 169 | Fresh salmon.
59044L (CBO) | Dillingham, AK | 09/05/2002 | NAFTA-7, 170 | Fresh salmon.
66515L (CBO) | Dillingham, AK | 09/05/2002 | NAFTA-7, 171 | Fresh salmon.
65848J (CBO) | Dillingham, AK | 09/05/2002 | NAFTA-7, 172 | Fresh salmon.
64971P (CBO) | Dillingham, AK | 09/05/2002 | NAFTA-7, 173 | Fresh salmon.
60476N (CBO) | Dillingham, AK | 09/05/2002 | NAFTA-7, 174 | Fresh salmon.
64925V (CBO) | Dillingham, AK | 09/05/2002 | NAFTA-7, 175 | Fresh salmon.
59799X (CBO) | Dillingham, AK | 09/05/2002 | NAFTA-7, 176 | Fresh salmon.
59802F (CBO) | Dillingham, AK | 09/05/2002 | NAFTA-7, 177 | Fresh salmon.
65417N (CBO) | Dillingham, AK | 09/05/2002 | NAFTA-7, 178 | Fresh salmon.
58140B (CBO) | Dillingham, AK | 09/05/2002 | NAFTA-7, 179 | Fresh salmon.
59971G (CBO) | Dillingham, AK | 09/05/2002 | NAFTA-7, 180 | Fresh salmon.
64749S (CBO) | Dillingham, AK | 09/05/2002 | NAFTA-7, 181 | Fresh salmon.
59909K (CBO) | Dillingham, AK | 09/05/2002 | NAFTA-7, 182 | Fresh salmon.
60506M (CBO) | Dillingham, AK | 09/05/2002 | NAFTA-7, 183 | Fresh salmon.
64124J (CBO) | Dillingham, AK | 09/05/2002 | NAFTA-7, 184 | Fresh salmon.
64806J (CBO) | Dillingham, AK | 09/05/2002 | NAFTA-7, 185 | Fresh salmon.
64739V (CBO) | Dillingham, AK | 09/05/2002 | NAFTA-7, 186 | Fresh salmon.
59092P (CBO) | Dillingham, AK | 09/05/2002 | NAFTA-7, 187 | Fresh salmon.
65124I (CBO) | Dillingham, AK | 09/05/2002 | NAFTA-7, 188 | Fresh salmon.
60348V (CBO) | Dillingham, AK | 09/05/2002 | NAFTA-7, 189 | Fresh salmon.
55949G (CBO) | Dillingham, AK | 09/05/2002 | NAFTA-7, 190 | Fresh salmon.
64929P (CBO) | Dillingham, AK | 09/05/2002 | NAFTA-7, 191 | Fresh salmon.
65868F (CBO) | Dillingham, AK | 09/05/2002 | NAFTA-7, 192 | Fresh salmon.
59885O (CBO) | Dillingham, AK | 09/05/2002 | NAFTA-7, 193 | Fresh salmon.
61231Q (CBO) | Dillingham, AK | 09/05/2002 | NAFTA-7, 194 | Fresh salmon.
59801M (CBO) | Dillingham, AK | 09/05/2002 | NAFTA-7, 195 | Fresh salmon.
61256Z (CBO) | Dillingham, AK | 09/05/2002 | NAFTA-7, 196 | Fresh salmon.
64699Z (CBO) | Dillingham, AK | 09/05/2002 | NAFTA-7, 197 | Fresh salmon.
59896F (CBO) | Dillingham, AK | 09/05/2002 | NAFTA-7, 198 | Fresh salmon.
56740G (CBO) | Dillingham, AK | 09/05/2002 | NAFTA-7, 199 | Fresh salmon.
64416W (CBO) | Dillingham, AK | 09/05/2002 | NAFTA-7, 200 | Fresh salmon.
59862Q (CBO) | Dillingham, AK | 09/05/2002 | NAFTA-7, 201 | Fresh salmon.
64920J (CBO) | Dillingham, AK | 09/05/2002 | NAFTA-7, 202 | Fresh salmon.
59261W (CBO) | Dillingham, AK | 09/05/2002 | NAFTA-7, 203 | Fresh salmon.
60356J (CBO) | Dillingham, AK | 09/05/2002 | NAFTA-7, 204 | Fresh salmon.
59859P (CBO) | Dillingham, AK | 09/05/2002 | NAFTA-7, 205 | Fresh salmon.
64790B (CBO) | Dillingham, AK | 09/05/2002 | NAFTA-7, 206 | Fresh salmon.
60660E (CBO) | Dillingham, AK | 09/05/2002 | NAFTA-7, 207 | Fresh salmon.
59580B (CBO) | Dillingham, AK | 09/05/2002 | NAFTA-7, 208 | Fresh salmon.
60455A (CBO) | Dillingham, AK | 09/05/2002 | NAFTA-7, 209 | Fresh salmon.
64726V (CBO) | Dillingham, AK | 09/05/2002 | NAFTA-7,210 | Fresh salmon.
55445R (CBO) | Dillingham, AK | 09/05/2002 | NAFTA-7,211 | Fresh salmon.
67337X (CBO) | Dillingham, AK | 09/05/2002 | NAFTA-7,212 | Fresh salmon.
57123J (CBO) | Egegik, AK | 09/05/2002 | NAFTA-7,213 | Fresh salmon.
60370A (CBO) | Egegik, AK | 09/05/2002 | NAFTA-7,214 | Fresh salmon.
61882A (CBO) | Egegik, AK | 09/05/2002 | NAFTA-7,215 | Fresh salmon.
65878C (CBO) | Egegik, AK | 09/05/2002 | NAFTA-7,216 | Fresh salmon.
59796V (CBO) | Egegik, AK | 09/05/2002 | NAFTA-7,217 | Fresh salmon.
59914V (CBO) | Egegik, AK | 09/05/2002 | NAFTA-7,218 | Fresh salmon.
59825C (CBO) | Egegik, AK | 09/05/2002 | NAFTA-7,219 | Fresh salmon.
59436I (CBO) | Egegik, AK | 09/05/2002 | NAFTA-7,220 | Fresh salmon.
68161S (CBO) | Egegik, AK | 09/05/2002 | NAFTA-7,221 | Fresh salmon.
60957E (CBO) | Egegik, AK | 09/05/2002 | NAFTA-7,222 | Fresh salmon.
60819N (CBO) | Egegik, AK | 09/05/2002 | NAFTA-7,223 | Fresh salmon.
59300B (CBO) | Egegik, AK | 09/05/2002 | NAFTA-7,224 | Fresh salmon.
60833F (CBO) | Egegik, AK | 09/05/2002 | NAFTA-7,225 | Fresh salmon.
64412C (CBO) | Egegik, AK | 09/05/2002 | NAFTA-7,226 | Fresh salmon.
60920N (CBO) | Egegik, AK | 09/05/2002 | NAFTA-7,227 | Fresh salmon.
58934R (CBO) | Iliamna, AK | 09/05/2002 | NAFTA-7,228 | Fresh salmon.
59918P (CBO) | Iliamna, AK | 09/05/2002 | NAFTA-7,229 | Fresh salmon.
60644C (CBO) | Iliamna, AK | 09/05/2002 | NAFTA-7,230 | Fresh salmon.
60661V (CBO) | Iliamna, AK | 09/05/2002 | NAFTA-7,231 | Fresh salmon.
63415G (CBO) | Iliamna, AK | 09/05/2002 | NAFTA-7,232 | Fresh salmon.
59918P (CBO) | Iliamna, AK | 09/05/2002 | NAFTA-7,233 | Fresh salmon.
56549U (CBO) | Iliamna, AK | 09/05/2002 | NAFTA-7,234 | Fresh salmon.
59463Z (CBO) | Iliamna, AK | 09/05/2002 | NAFTA-7,235 | Fresh salmon.
60440P (CBO) | King Salmon, AK′ | 09/05/2002 | NAFTA-7,236 | Fresh salmon.
56816A (CBO) | King Salmon, AK | 09/05/2002 | NAFTA-7,237 | Fresh salmon.
56862U (CBO) | King Salmon, AK | 09/05/2002 | NAFTA-7,238 | Fresh salmon.
57459I (CBO) | King Salmon, AK | 09/05/2002 | NAFTA-7,239 | Fresh salmon.
59910B (CBO) | King Salmon, AK | 09/05/2002 | NAFTA-7,240 | Fresh salmon.
60768B (CBO) | King Salmon, AK | 09/05/2002 | NAFTA-7,241 | Fresh salmon.
57388A (CBO) | King Salmon, AK | 09/05/2002 | NAFTA-7,242 | Fresh salmon.
64891C (CBO) | King Salmon, AK | 09/05/2002 | NAFTA-7,243 | Fresh salmon.
58575Q (CBO) | King Salmon, AK | 09/05/2002 | NAFTA-7,244 | Fresh salmon.
60091M (CBO) | King Salmon, AK | 09/05/2002 | NAFTA-7,245 | Fresh salmon.
65619P (CBO) | King Salmon, AK | 09/05/2002 | NAFTA-7,246 | Fresh salmon.
61514Z (CBO) | King Salmon, AK | 09/05/2002 | NAFTA-7,247 | Fresh salmon.
64924O (CBO) | King Salmon, AK | 09/05/2002 | NAFTA-7,248 | Fresh salmon.
60024F (CBO) | King Salmon, AK | 09/05/2002 | NAFTA-7,249 | Fresh salmon.
58844H (CBO) | King Salmon, AK | 09/05/2002 | NAFTA-7,250 | Fresh salmon.
65824S (CBO) | King Salmon, AK | 09/05/2002 | NAFTA-7,251 | Fresh salmon.
64903P (CBO) | King Salmon, AK | 09/05/2002 | NAFTA-7,252 | Fresh salmon.
58418X (CBO) | King Salmon, AK | 09/05/2002 | NAFTA-7,253 | Fresh salmon.
59115S (CBO) | King Salmon, AK | 09/05/2002 | NAFTA-7,254 | Fresh salmon.
59894U (CBO) | King Salmon, AK | 09/05/2002 | NAFTA-7,255 | Fresh salmon.
60964Z (CBO) | King Salmon, AK | 09/05/2002 | NAFTA-7,256 | Fresh salmon.
60314I (CBO) | King Salmon, AK | 09/05/2002 | NAFTA-7,257 | Fresh salmon.
60363F (CBO) | King Salmon, AK | 09/05/2002 | NAFTA-7,258 | Fresh salmon.
56843Q (CBO) | King Salmon, AK | 09/05/2002 | NAFTA-7,259 | Fresh salmon.
58261X (CBO) | King Salmon, AK | 09/05/2002 | NAFTA-7,260 | Fresh salmon.
56033Z (CBO) | King Salmon, AK | 09/05/2002 | NAFTA-7,261 | Fresh salmon.
56034Q (CBO) | King Salmon, AK | 09/05/2002 | NAFTA-7,262 | Fresh salmon.
64829H (CBO) | Kokhanok, AK | 09/05/2002 | NAFTA-7,263 | Fresh salmon.
60827B (CBO) | Kokhanok, AK | 09/05/2002 | NAFTA-7,264 | Fresh salmon.
64724L (CBO) | Kokhanok, AK | 09/05/2002 | NAFTA-7,265 | Fresh salmon.
64928X (CBO) | Kokhanok, AK | 09/05/2002 | NAFTA-7,266 | Fresh salmon.
59457V (CBO) | Kokhanok, AK | 09/05/2002 | NAFTA-7,267 | Fresh salmon.
64830X (CBO) | Kokhanok, AK | 09/05/2002 | NAFTA-7,268 | Fresh salmon.
56934U (CBO) | Koliganek, AK | 09/05/2002 | NAFTA-7,269 | Fresh salmon.
60435F (CBO) | Koliganek, AK | 09/05/2002 | NAFTA-7,270 | Fresh salmon.
57450B (CBO) | Levelock, AK | 09/05/2002 | NAFTA-7,271 | Fresh salmon.
65875A (CBO) | Levelock, AK | 09/05/2002 | NAFTA-7,272 | Fresh salmon.
58445O (CBO) | Levelock, AK | 09/05/2002 | NAFTA-7,273 | Fresh salmon.
56856Q (CBO) | Levelock, AK | 09/05/2002 | NAFTA-7,274 | Fresh salmon.
66980S (CBO) | Levelock, AK | 09/05/2002 | NAFTA-7,275 | Fresh salmon.
60097Q (CBO) | Levelock, AK | 09/05/2002 | NAFTA-7,276 | Fresh salmon.
65876R (CBO) | Levelock, AK | 09/05/2002 | NAFTA-7,277 | Fresh salmon.
64927G (CBO) | Manokotak, AK | 09/05/2002 | NAFTA-7,278 | Fresh salmon.
60517C (CBO) | Manokotak, AK | 09/05/2002 | NAFTA-7,279 | Fresh salmon.
64911E (CBO) | Manokotak, AK | 09/05/2002 | NAFTA-7,280 | Fresh salmon.
58255U (CBO) | Manokotak, AK | 09/05/2002 | NAFTA-7,281 | Fresh salmon.
65919Q (CBO) | Manokotak, AK | 09/05/2002 | NAFTA-7,282 | Fresh salmon.
64953F (CBO) | Manokotak, AK | 09/05/2002 | NAFTA-7,283 | Fresh salmon.
59976R (CBO) | Manokotak, AK | 09/05/2002 | NAFTA-7,284 | Fresh salmon.
58784O (CBO) | Manokotak, AK | 09/05/2002 | NAFTA-7,285 | Fresh salmon.
65874I (CBO) | Manokotak, AK | 09/05/2002 | NAFTA-7,286 | Fresh salmon.
60242I (CBO) | Manokotak, AK | 09/05/2002 | NAFTA-7,287 | Fresh salmon.
55655I (CBO) | Manokotak, AK | 09/05/2002 | NAFTA-7,288 | Fresh salmon.
65003L (CBO) | Manokotak, AK | 09/05/2002 | NAFTA-7,289 | Fresh salmon.
64753M (CBO) | Manokotak, AK | 09/05/2002 | NAFTA-7,290 | Fresh salmon.
60691O (CBO) | Manokotak, AK | 09/05/2002 | NAFTA-7,291 | Fresh salmon.
57684H (CBO) | Manokotak, AK | 09/05/2002 | NAFTA-7,292 | Fresh salmon.
65401L (CBO) | Manokotak, AK | 09/05/2002 | NAFTA-7,293 | Fresh salmon.
64733Q (CBO) | Manokotak, AK | 09/05/2002 | NAFTA-7,294 | Fresh salmon.
64733Q (CBO) | Manokotak, AK |  | NAFTA-7,295 | Fresh salmon.
60785U (CBO) | Manokotak, AK | 09/05/2002 | NAFTA-7,296 | Fresh salmon.
65873P (CBO) | Manokotak, AK | 09/05/2002 | NAFTA-7,297 | Fresh salmon.
64868G (CBO) | Manokotak, AK | 09/05/2002 | NAFTA-7,298 | Fresh salmon.
58083L (CBO) | Manokotak, AK | 09/05/2002 | NAFTA-7,299 | Fresh salmon.
60027H (CBO) | Manokotak, AK | 09/05/2002 | NAFTA-7,300 | Fresh salmon.
65405G (CBO) | Manokotak, AK | 09/05/2002 | NAFTA-7,301 | Fresh salmon.
64983X (CBO) | Manokotak, AK | 09/05/2002 | NAFTA-7,302 | Fresh salmon.
58837L (CBO) | Manokotak, AK | 09/05/2002 | NAFTA-7,303 | Fresh salmon.
64973A (CBO) | Manokotak, AK | 09/05/2002 | NAFTA-7,304 | Fresh salmon.
65439S (CBO) | Manokotak, AK | 09/05/2002 | NAFTA-7,305 | Fresh salmon.
58531G (CBO) | Manokotak, AK | 09/05/2002 | NAFTA-7,306 | Fresh salmon.
64871H (CBO) | Manokotak, AK | 09/05/2002 | NAFTA-7,307 | Fresh salmon.
57390J (CBO) | Manokotak, AK | 09/05/2002 | NAFTA-7,308 | Fresh salmon.
64734J (CBO) | Manokotak, AK | 09/05/2002 | NAFTA-7,309 | Fresh salmon.
64992S (CBO) | Manokotak, AK | 09/05/2002 | NAFTA-7,310 | Fresh salmon.
65424J (CBO) | Manokotak, AK | 09/05/2002 | NAFTA-7,311 | Fresh salmon.
64686Z (CBO) | Manokotak, AK | 09/05/2002 | NAFTA-7,312 | Fresh salmon.
59828F (CBO) | Manokotak, AK | 09/05/2002 | NAFTA-7,313 | Fresh salmon.
59877B (CBO) | Manokotak, AK | 09/05/2002 | NAFTA-7,314 | Fresh salmon.
64750K (CBO) | Manokotak, AK | 09/05/2002 | NAFTA-7,315 | Fresh salmon.
65434H (CBO) | Manokotak, AK | 09/05/2002 | NAFTA-7,316 | Fresh salmon.
61881I (CBO) | Manokotak, AK | 09/05/2002 | NAFTA-7,317 | Fresh salmon.
65478R (CBO) | Manokotak, AK | 09/05/2002 | NAFTA-7,318 | Fresh salmon.
64765U (CBO) | Manokotak, AK | 09/05/2002 | NAFTA-7,319 | Fresh salmon.
58629G (CBO) | Manokotak, AK | 09/05/2002 | NAFTA-7,320 | Fresh salmon.
62119A (CBO) | Manokotak, AK | 09/05/2002 | NAFTA-7,321 | Fresh salmon.
64901G (CBO) | Manokotak, AK | 09/05/2002 | NAFTA-7,322 | Fresh salmon.
65887I (CBO) | Manokotak, AK | 09/05/2002 | NAFTA-7,323 | Fresh salmon.
57353U (CBO) | Manokotak, AK | 09/05/2002 | NAFTA-7,324 | Fresh salmon.
57507R (CBO) | Naknek, AK | 09/05/2002 | NAFTA-7,325 | Fresh salmon.
61297I (CBO) | Naknek, AK | 09/05/2002 | NAFTA-7,326 | Fresh salmon.
59937S (CBO) | Naknek, AK | 09/05/2002 | NAFTA-7,327 | Fresh salmon.
59906I (CBO) | Naknek, AK | 09/05/2002 | NAFTA-7,328 | Fresh salmon.
65507Z (CBO) | Naknek, AK | 09/05/2002 | NAFTA-7,329 | Fresh salmon.
57511L (CBO) | Naknek, AK | 09/05/2002 | NAFTA-7,330 | Fresh salmon.
65830W (CBO) | Naknek, AK | 09/05/2002 | NAFTA-7,331 | Fresh salmon.
65846Z (CBO) | Naknek, AK | 09/05/2002 | NAFTA-7,332 | Fresh salmon.
58138R (CBO) | Naknek, AK | 09/05/2002 | NAFTA-7,333 | Fresh salmon.
57456G (CBO) | Naknek, AK | 09/05/2002 | NAFTA-7,334 | Fresh salmon.
60891H (CBO) | Naknek, AK | 09/05/2002 | NAFTA-7,335 | Fresh salmon.
55415Z (CBO) | Naknek, AK | 09/05/2002 | NAFTA-7,336 | Fresh salmon.
55630A (CBO) | Naknek, AK | 09/05/2002 | NAFTA-7,337 | Fresh salmon.
58023Z (CBO) | Naknek, AK | 09/05/2002 | NAFTA-7,338 | Fresh salmon.
65135X (CBO) | Naknek, AK | 09/05/2002 | NAFTA-7,339 | Fresh salmon.
58646Z (CBO) | Naknek, AK | 09/05/2002 | NAFTA-7,340 | Fresh salmon.
60440P (CBO) | Naknek, AK | 09/05/2002 | NAFTA-7,341 | Fresh salmon.
58494L (CBO) | Naknek, AK | 09/05/2002 | NAFTA-7,342 | Fresh salmon.
59332F (CBO) | Naknek, AK | 09/05/2002 | NAFTA-7,343 | Fresh salmon.
60565H (CBO) | Naknek, AK | 09/05/2002 | NAFTA-7,344 | Fresh salmon.
65846Z (CBO) | Naknek, AK | 09/05/2002 | NAFTA-7,345 | Fresh salmon.
60096Z (CBO) | Naknek, AK | 09/05/2002 | NAFTA-7,346 | Fresh salmon.
57450B (CBO) | Naknek, AK | 09/05/2002 | NAFTA-7,347 | Fresh salmon.
59912L (CBO) | Naknek, AK | 09/05/2002 | NAFTA-7,348 | Fresh salmon.
60840A (CBO) | Naknek, AK | 09/05/2002 | NAFTA-7,349 | Fresh salmon.
58965E (CBO) | Naknek, AK | 09/05/2002 | NAFTA-7,350 | Fresh salmon.
57416O (CBO) | Naknek, AK | 09/05/2002 | NAFTA-7,351 | Fresh salmon.
59919I (CBO) | Naknek, AK | 09/05/2002 | NAFTA-7,352 | Fresh salmon.
60518U (CBO) | Naknek, AK | 09/05/2002 | NAFTA-7,353 | Fresh salmon.
58022H (CBO) | Naknek, AK | 09/05/2002 | NAFTA-7,354 | Fresh salmon.
64847R (CBO) | Naknek, AK | 09/05/2002 | NAFTA-7,355 | Fresh salmon.
56629I (CBO) | Naknek, AK | 09/05/2002 | NAFTA-7,356 | Fresh salmon.
59852S (CBO) | Naknek, AK | 09/05/2002 | NAFTA-7,357 | Fresh salmon.
59853L (CBO) | Naknek, AK | 09/05/2002 | NAFTA-7,358 | Fresh salmon.
59854E (CBO) | Naknek, AK | 09/05/2002 | NAFTA-7,359 | Fresh salmon.
65821Q (CBO) | Naknek, AK | 09/05/2002 | NAFTA-7,360 | Fresh salmon.
59881U (CBO) | Naknek, AK | 09/05/2002 | NAFTA-7,361 | Fresh salmon.
64955O (CBO) | Naknek, AK | 09/05/2002 | NAFTA-7,362 | Fresh salmon.
57535B (CBO) | Naknek, AK | 09/05/2002 | NAFTA-7,363 | Fresh salmon.
58641M (CBO) | Naknek, AK | 09/05/2002 | NAFTA-7,364 | Fresh salmon.
600940 (CBO) | Naknek, AK | 09/05/2002 | NAFTA-7,365 | Fresh salmon.
59906I (CBO) | Naknek, AK | 09/05/2002 | NAFTA-7,366 | Fresh salmon.
62878G (CBO) | Naknek, AK | 09/05/2002 | NAFTA-7,367 | Fresh salmon.
59358F (CBO) | Naknek, AK | 09/05/2002 | NAFTA-7,368 | Fresh salmon.
60473L (CBO) | Naknek, AK | 09/05/2002 | NAFTA-7,369 | Fresh salmon.
58673P (CBO) | Naknek, AK | 09/05/2002 | NAFTA-7,370 | Fresh salmon.
59941M (CBO) | Naknek, AK | 09/05/2002 | NAFTA-7,371 | Fresh salmon.
64414M (CBO) | Naknek, AK | 09/05/2002 | NAFTA-7,372 | Fresh salmon.
57646A (CBO) | Naknek, AK | 09/05/2002 | NAFTA-7,373 | Fresh salmon.
60473L (CBO) | Naknek, AK | 09/05/2002 | NAFTA-7,374 | Fresh salmon.
60707W (CBO) | Naknek, AK | 09/05/2002 | NAFTA-7,375 | Fresh salmon.
59934Q (CBO) | Naknek, AK | 09/05/2002 | NAFTA-7,376 | Fresh salmon.
59883F (CBO) | Naknek, AK | 09/05/2002 | NAFTA-7,377 | Fresh salmon.
60241P (CBO) | Naknek, AK | 09/05/2002 | NAFTA-7,378 | Fresh salmon.
59928N (CBO) | Naknek, AK | 09/05/2002 | NAFTA-7,379 | Fresh salmon.
64867N (CBO) | Naknek, AK | 09/05/2002 | NAFTA-7,380 | Fresh salmon.
60941B (CBO) | Naknek, AK | 09/05/2002 | NAFTA-7,381 | Fresh salmon.
60849H (CBO) | Naknek, AK | 09/05/2002 | NAFTA-7,382 | Fresh salmon.
58976S (CBO) | Naknek, AK | 09/05/2002 | NAFTA-7,383 | Fresh salmon.
65892S (CBO) | Naknek, AK | 09/05/2002 | NAFTA-7,384 | Fresh salmon.
65851K (CBO) | Naknek, AK | 09/05/2002 | NAFTA-7,385 | Fresh salmon.
68176E (CBO) | Naknek, AK | 09/05/2002 | NAFTA-7,386 | Fresh salmon.
66424I (CBO) | Naknek, AK | 09/05/2002 | NAFTA-7,387 | Fresh salmon.
63412E (CBO) | Naknek, AK | 09/05/2002 | NAFTA-7,388 | Fresh salmon.
604110 (CBO) | Naknek, AK | 09/05/2002 | NAFTA-7,389 | Fresh salmon.
66551I (CBO) | Naknek, AK | 09/05/2002 | NAFTA-7,390 | Fresh salmon.
59942F (CBO) | Naknek, AK | 09/05/2002 | NAFTA-7,391 | Fresh salmon.
65872X (CBO) | Naknek, AK | 09/05/2002 | NAFTA-7,392 | Fresh salmon.
57957Q (CBO) | Naknek, AK | 09/05/2002 | NAFTA-7,393 | Fresh salmon.
65838L (CBO) | Naknek, AK | 09/05/2002 | NAFTA-7,394 | Fresh salmon.
65134G (CBO) | Naknek, AK | 09/05/2002 | NAFTA-7,395 | Fresh salmon.
65896N (CBO) | Naknek, AK | 09/05/2002 | NAFTA-7,396 | Fresh salmon.
51572W (CBO) | Naknek, AK | 09/05/2002 | NAFTA-7,397 | Fresh salmon.
58225B (CBO) | Naknek, AK | 09/05/2002 | NAFTA-7,398 | Fresh salmon.
64437K (CBO) | Naknek, AK | 09/05/2002 | NAFTA-7,399 | Fresh salmon.
60851P (CBO) | Naknek, AK | 09/05/2002 | NAFTA-7,400 | Fresh salmon.
58455M (CBO) | Naknek, AK | 09/05/2002 | NAFTA-7,401 | Fresh salmon.
59876J (CBO) | Naknek, AK | 09/05/2002 | NAFTA-7,402 | Fresh salmon.
59879L (CBO) | New Stuyahok, AK | 09/05/2002 | NAFTA-7,403 | Fresh salmon.
60427Q (CBO) | New Stuyahok, AK | 09/05/2002 | NAFTA-7,404 | Fresh salmon.
56574B (CBO) | New Stuyahok, AK | 09/05/2002 | NAFTA-7,405 | Fresh salmon.
65153J (CBO) | New Stuyahok, AK | 09/05/2002 | NAFTA-7,406 | Fresh salmon.
65036H (CBO) | New Stuyahok, AK | 09/05/2002 | NAFTA-7,407 | Fresh salmon.
57929I (CBO) | New Stuyahok, AK | 09/05/2002 | NAFTA-7,408 | Fresh salmon.
65881E (CBO) | New Stuyahok, AK | 09/05/2002 | NAFTA-7,409 | Fresh salmon.
56867H (CBO) | Newhalen, AK | 09/05/2002 | NAFTA-7,410 | Fresh salmon.
56738W (CBO) | Newhalen, AK | 09/05/2002 | NAFTA-7,411 | Fresh salmon.
58233O (CBO) | Newhalen, AK | 09/05/2002 | NAFTA-7,412 | Fresh salmon.
66587G (CBO) | Nondalton, AK | 09/05/2002 | NAFTA-7,413 | Fresh salmon.
65030C (CBO) | Nondalton, AK | 09/05/2002 | NAFTA-7,414 | Fresh salmon.
65175O (CBO) | Nondalton, AK | 09/05/2002 | NAFTA-7,415 | Fresh salmon.
65886P (CBO) | Nondalton, AK | 09/05/2002 | NAFTA-7,416 | Fresh salmon.
64782N (CBO) | Nondalton, AK | 09/05/2002 | NAFTA-7,417 | Fresh salmon.
64951U (CBO) | Nondalton, AK | 09/05/2002 | NAFTA-7,418 | Fresh salmon.
64670W (CBO) | Nondalton, AK | 09/05/2002 | NAFTA-7,419 | Fresh salmon.
65111I (CBO) | Nondalton, AK | 09/05/2002 | NAFTA-7,420 | Fresh salmon.
58779E (CBO) | Pedro Bay, AK | 09/05/2002 | NAFTA-7,421 | Fresh salmon.
59935J (CBO) | Pedro Bay, AK | 09/05/2002 | NAFTA-7,422 | Fresh salmon.
59954M (CBO) | Pilot Point, AK | 09/05/2002 | NAFTA-7,423 | Fresh salmon.
58234H (CBO) | Pilot Point, AK | 09/05/2002 | NAFTA-7,424 | Fresh salmon.
58352B (CBO) | Pilot Point, AK | 09/05/2002 | NAFTA-7,425 | Fresh salmon.
65050X (CBO) | Pilot Point, AK | 09/05/2002 | NAFTA-7,426 | Fresh salmon.
59641L (CBO) | Pilot Point, AK | 09/05/2002 | NAFTA-7,427 | Fresh salmon.
65907J (CBO) | Pilot Point, AK | 09/05/2002 | NAFTA-7,428 | Fresh salmon.
58385W (CBO) | Pilot Point, AK | 09/05/2002 | NAFTA-7,429 | Fresh salmon.
58139K (CBO) | Port Alsworth, AK | 09/05/2002 | NAFTA-7,430 | Fresh salmon.
58140B (CBO) | Port Alsworth, AK | 09/05/2002 | NAFTA-7,431 | Fresh salmon.
65423Q (CBO) | Port Heiden, AK | 09/05/2002 | NAFTA-7,432 | Fresh salmon.
59894U (CBO) | Port Heiden, AK | 09/05/2002 | NAFTA-7,433 | Fresh salmon.
65856W (CBO) | Port Heiden, AK | 09/05/2002 | NAFTA-7,434 | Fresh salmon.
59857G (CBO) | South Naknek, AK | 09/05/2002 | NAFTA-7,435 | Fresh salmon.
59927V (CBO) | South Naknek, AK | 09/05/2002 | NAFTA-7,436 | Fresh salmon.
60834W (CBO) | South Naknek, AK | 09/05/2002 | NAFTA-7,437 | Fresh salmon.
60290M (CBO) | South Naknek, AK | 09/05/2002 | NAFTA-7,438 | Fresh salmon.
58833Q (CBO) | South Naknek, AK | 09/05/2002 | NAFTA-7,439 | Fresh salmon.
60185R (CBO) | South Naknek, AK | 09/05/2002 | NAFTA-7,440 | Fresh salmon.
57510S (CBO) | South Naknek, AK | 09/05/2002 | NAFTA-7,441 | Fresh salmon.
58777S (CBO) | South Naknek, AK | 09/05/2002 | NAFTA-7,442 | Fresh salmon.
51572W (CBO) | South Naknek, AK | 09/05/2002 | NAFTA-7,443 | Fresh salmon.
57783X (CBO) | South Naknek, AK | 09/05/2002 | NAFTA-7,444 | Fresh salmon.
59897W (CBO) | South Naknek, AK | 09/05/2002 | NAFTA-7,445 | Fresh salmon.
55165M (CBO) | South Naknek, AK | 09/05/2002 | NAFTA-7,446 | Fresh salmon.
58751S (CBO) | South Naknek, AK | 09/05/2002 | NAFTA-7,447 | Fresh salmon.
58963S (CBO) | South Naknek, AK | 09/05/2002 | NAFTA-7,448 | Fresh salmon.
58296E (CBO) | South Naknek, AK | 09/05/2002 | NAFTA-7,449 | Fresh salmon.
59803W (CBO) | South Naknek, AK | 09/05/2002 | NAFTA-7,450 | Fresh salmon.
58117F (CBO) | South Naknek, AK | 09/05/2002 | NAFTA-7,451 | Fresh salmon.
56213V (CBO) | South Naknek, AK | 09/05/2002 | NAFTA-7,452 | Fresh salmon.
57389R (CBO) | South Naknek, AK | 09/05/2002 | NAFTA-7,453 | Fresh salmon.
65820Z (CBO) | South Naknek, AK | 09/05/2002 | NAFTA-7,454 | Fresh salmon.
58296E (CBO) | South Naknek, AK | 09/05/2002 | NAFTA-7,455 | Fresh salmon.
58963S (CBO) | South Naknek, AK | 09/05/2002 | NAFTA-7,456 | Fresh salmon.
60431K (CBO) | South Naknek, AK | 09/05/2002 | NAFTA-7,457 | Fresh salmon.
59811K (CBO) | South Naknek, AK | 09/05/2002 | NAFTA-7,458 | Fresh salmon.
59938L (CBO) | South Naknek, AK | 09/05/2002 | NAFTA-7,459 | Fresh salmon.
65617G (CBO) | South Naknek, AK | 09/05/2002 | NAFTA-7,460 | Fresh salmon.
65649J (CBO) | South Naknek, AK | 09/05/2002 | NAFTA-7,461 | Fresh salmon.
64743O (CBO) | South Naknek, AK | 09/05/2002 | NAFTA-7,462 | Fresh salmon.
58418X (CBO) | South Naknek, AK | 09/05/2002 | NAFTA-7,463 | Fresh salmon.
59903G (CBO) | South Naknek, AK | 09/05/2002 | NAFTA-7,464 | Fresh salmon.
65623J (CBO) | South Naknek, AK | 09/05/2002 | NAFTA-7,465 | Fresh salmon.
57797P (CBO) | South Naknek, AK | 09/05/2002 | NAFTA-7,466 | Fresh salmon.
65069C (CBO) | South Naknek, AK | 09/05/2002 | NAFTA-7,467 | Fresh salmon.
59863J (CBO) | South Naknek, AK | 09/05/2002 | NAFTA-7,468 | Fresh salmon.
60044A (CBO) | South Naknek, AK | 09/05/2002 | NAFTA-7,469 | Fresh salmon.
65860P (CBO) | South Naknek, AK | 09/05/2002 | NAFTA-7,470 | Fresh salmon.
60854R (CBO) | South Naknek, AK | 09/05/2002 | NAFTA-7,471 | Fresh salmon.
65820Z (CBO) | South Naknek, AK | 09/05/2002 | NAFTA-7,472 | Fresh salmon.
65633H (CBO) | South Naknek, AK | 09/05/2002 | NAFTA-7,473 | Fresh salmon.
59882M (CBO) | South Naknek, AK | 09/05/2002 | NAFTA-7,474 | Fresh salmon.
59892K (CBO) | South Naknek, AK | 09/05/2002 | NAFTA-7,475 | Fresh salmon.
60491W (CBO) | Togiak, AK | 09/05/2002 | NAFTA-7,476 | Fresh salmon.
65928W (CBO) | Togiak, AK | 09/05/2002 | NAFTA-7,477 | Fresh salmon.
60128I (CBO) | Togiak, AK | 09/05/2002 | NAFTA-7,478 | Fresh salmon.
68318S (CBO) | Togiak, AK | 09/05/2002 | NAFTA-7,479 | Fresh salmon.
60853A (CBO) | Togiak, AK | 09/05/2002 | NAFTA-7,480 | Fresh salmon.
59973P (CBO) | Togiak, AK | 09/05/2002 | NAFTA-7,481 | Fresh salmon.
64444G (CBO) | Togiak, AK | 09/05/2002 | NAFTA-7,482 | Fresh salmon.
64738E (CBO) | Togiak, AK | 09/05/2002 | NAFTA-7,483 | Fresh salmon.
66267J (CBO) | Togiak, AK | 09/05/2002 | NAFTA-7,484 | Fresh salmon.
60019S (CBO) | Togiak, AK | 09/05/2002 | NAFTA-7,485 | Fresh salmon.
65849B (CBO) | Togiak, AK | 09/05/2002 | NAFTA-7,486 | Fresh salmon.
59797N (CBO) | Togiak, AK | 09/05/2002 | NAFTA-7,487 | Fresh salmon.
59917X (CBO) | Togiak, AK | 09/05/2002 | NAFTA-7,488 | Fresh salmon.
66274F (CBO) | Togiak, AK | 09/05/2002 | NAFTA-7,489 | Fresh salmon.
64729X (CBO) | Togiak, AK | 09/05/2002 | NAFTA-7,490 | Fresh salmon.
60708O (CBO) | Togiak, AK | 09/05/2002 | NAFTA-7,491 | Fresh salmon.
65416V (CBO) | Togiak, AK | 09/05/2002 | NAFTA-7,492 | Fresh salmon.
60432C (CBO) | Togiak, AK | 09/05/2002 | NAFTA-7,493 | Fresh salmon.
60766Q (CBO) | Togiak, AK | 09/05/2002 | NAFTA-7,494 | Fresh salmon.
65438B (CBO) | Togiak, AK | 09/05/2002 | NAFTA-7,495 | Fresh salmon.
56241F (CBO) | Togiak, AK | 09/05/2002 | NAFTA-7,496 | Fresh salmon.
65839E (CBO) | Togiak, AK | 09/05/2002 | NAFTA-7,497 | Fresh salmon.
59702V (CBO) | Togiak, AK | 09/05/2002 | NAFTA-7,498 | Fresh salmon.
60875G (CBO) | Togiak, AK | 09/05/2002 | NAFTA-7,499 | Fresh salmon.
64943H (CBO) | Togiak, AK | 09/05/2002 | NAFTA-7,500 | Fresh salmon.
60764H (CBO) | Togiak, AK | 09/05/2002 | NAFTA-7,501 | Fresh salmon.
57326E (CBO) | Togiak, AK | 09/05/2002 | NAFTA-7,502 | Fresh salmon.
65434H (CBO) | Togiak, AK | 09/05/2002 | NAFTA-7,503 | Fresh salmon.
65068M (CBO) | Togiak, AK | 09/05/2002 | NAFTA-7,504 | Fresh salmon.
64683W (CBO) | Togiak, AK | 09/05/2002 | NAFTA-7,505 | Fresh salmon.
59648I (CBO) | Togiak, AK | 09/05/2002 | NAFTA-7,506 | Fresh salmon.
61253W (CBO) | Togiak, AK | 09/05/2002 | NAFTA-7,507 | Fresh salmon.
60519M (CBO) | Togiak, AK | 09/05/2002 | NAFTA-7,508 | Fresh salmon.
65018V (CBO) | Togiak, AK | 09/05/2002 | NAFTA-7,509 | Fresh salmon.
59976R (CBO) | Togiak, AK | 09/05/2002 | NAFTA-7,510 | Fresh salmon.
64734J (CBO) | Togiak, AK | 09/05/2002 | NAFTA-7,511 | Fresh salmon.
56196W (CBO) | Togiak, AK | 09/05/2002 | NAFTA-7,512 | Fresh salmon.
63410S (CBO) | Togiak, AK | 09/05/2002 | NAFTA-7,513 | Fresh salmon.
65397M (CBO) | Togiak, AK | 09/05/2002 | NAFTA-7,514 | Fresh salmon.
57394E (CBO) | Togiak, AK | 09/05/2002 | NAFTA-7,515 | Fresh salmon.
64199G (CBO) | Togiak, AK | 09/05/2002 | NAFTA-7,516 | Fresh salmon.
60931E (CBO) | Togiak, AK | 09/05/2002 | NAFTA-7,517 | Fresh salmon.
66266Q (CBO) | Togiak, AK | 09/05/2002 | NAFTA-7,518 | Fresh salmon.
59167R (CBO) | Togiak, AK | 09/05/2002 | NAFTA-7,519 | Fresh salmon.
65880L (CBO) | Togiak, AK | 09/05/2002 | NAFTA-7,520 | Fresh salmon.
64982G (CBO) | Togiak, AK | 09/05/2002 | NAFTA-7,521 | Fresh salmon.
64744H (CBO) | Togiak, AK | 09/05/2002 | NAFTA-7,522 | Fresh salmon.
64429W (CBO) | Togiak, AK | 09/05/2002 | NAFTA-7,523 | Fresh salmon.
60354Z (CBO) | Togiak, AK | 09/05/2002 | NAFTA-7,524 | Fresh salmon.
59878S (CBO) | Togiak, AK | 09/05/2002 | NAFTA-7,525 | Fresh salmon.
65826E (CBO) | Togiak, AK | 09/05/2002 | NAFTA-7,526 | Fresh salmon.
64840V (CBO) | Togiak, AK | 09/05/2002 | NAFTA-7,527 | Fresh salmon.
55487S (CBO) | Togiak, AK | 09/05/2002 | NAFTA-7,528 | Fresh salmon.
60085J (CBO) | Togiak, AK | 09/05/2002 | NAFTA-7,529 | Fresh salmon.
59948J (CBO) | Togiak, AK | 09/05/2002 | NAFTA-7,530 | Fresh salmon.
60709H (CBO) | Togiak, AK | 09/05/2002 | NAFTA-7,531 | Fresh salmon.
60958V (CBO) | Togiak, AK | 09/05/2002 | NAFTA-7,532 | Fresh salmon.
66268B (CBO) | Togiak, AK | 09/05/2002 | NAFTA-7,533 | Fresh salmon.
55895Q (CBO) | Togiak, AK | 09/05/2002 | NAFTA-7,534 | Fresh salmon.
56932K (CBO) | Togiak, AK | 09/05/2002 | NAFTA-7,535 | Fresh salmon.
56933C (CBO) | Togiak, AK | 09/05/2002 | NAFTA-7,536 | Fresh salmon.
64719A (CBO) | Togiak, AK | 09/05/2002 | NAFTA-7,537 | Fresh salmon.
64695F (CBO) | Togiak, AK | 09/05/2002 | NAFTA-7,538 | Fresh salmon.
64763K (CBO) | Togiak, AK | 09/05/2002 | NAFTA-7,539 | Fresh salmon.
65091H (CBO) | Togiak, AK | 09/05/2002 | NAFTA-7,540 | Fresh salmon.
60764H (CBO) | Togiak, AK | 09/05/2002 | NAFTA-7,541 | Fresh salmon.
65886U (CBO) | Twin Hills, AK | 09/05/2002 | NAFTA-7,542 | Fresh salmon.
66274F (CBO) | Twin Hills, AK | 09/05/2002 | NAFTA-7,543 | Fresh salmon.
55786C (CBO) | Ugashik, AK | 09/05/2002 | NAFTA-7,544 | Fresh salmon.
58333X (CBO) | Ugashik, AK | 09/05/2002 | NAFTA-7,545 | Fresh salmon.
60018B (CBO) | Ugashik, AK | 09/05/2002 | NAFTA-7,546 | Fresh salmon.

[FR Doc. 02-28473 Filed 11-7-02; 8:45 am]

BILLING CODE 4510-30-M